DEPARTMENT OF THE INTERIOR

Fish and Wildlife Service

[FWS-R9-IA-2010-N122]

[96300-1671-0000-P5]

Emergency Exemption: Issuance of Permit for Endangered Species

AGENCY: Fish and Wildlife Service, Interior.

ACTION: Notice of emergency issuance of permit for endangered species.

SUMMARY: The following permit was issued.

ADDRESSES: Documents and other information submitted for this application are available for review, subject to the requirements of the Privacy Act and Freedom of Information Act, by any party who submits a request for a copy of such documents to: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION: On May 28, 2010, the U.S. Fish and Wildlife Service (Service) issued a permit (PRT-14281A) to the Rare Species Conservatory Foundation, Loxahatchee, Florida, to import one captive-hatched imperial parrot (Amazona imperialis) for the purpose of enhancement of the survival of the species. This action was authorized under Section 10(c) of the Endangered Species Act of 1973, as amended (16 U.S.C. 1531 et seq.). The Service determined that an emergency affecting the health and life of the imperial parrot existed, and that no reasonable alternative was available to the applicant for the following reasons:

The Rare Species Conservatory Foundation requested a permit to import the above-mentioned imperial parrot chick captive-hatched on May 6, 2010, at the Dominican Government Aviary (Parrot Conservation and Research Centre), Botanical Gardens, in Roseau, Dominica, for emergency and ongoing health evaluation purposes. This juvenile is the first of its species hatched in captivity anywhere in the world and was being parent-reared at the aviary until it was abandoned by its parents and subsequently rescued by the Centre. This import is necessary to save the bird's life and provide intensive veterinary and husbandry care not available in Dominica.

Dated: June 11, 2010.
Brenda Tapia,
Program Analyst, Branch of Permits, Division of Management Authority.

[FR Doc. 2010-14804 Filed 6-17-10; 8:45 am]

BILLING CODE 4310-55-S